DEPARTMENT OF THE TREASURY

Internal Revenue Service

26 CFR Part 1

[TD 9207]

RIN 1545-AX93

Assumption of Partner Liabilities; Correction

AGENCY: Internal Revenue Service (IRS), Treasury.

ACTION: Correcting amendment.

SUMMARY: This document corrects final regulations (TD 9207) that were published in the Federal Register on Thursday, May 26, 2005 (70 FR 30334). The final regulation relates to the definition of liabilities under section 752 of the Internal Revenue Code.

DATES: This correction is effective on May 26, 2005.

FOR FURTHER INFORMATION CONTACT: Laura Fields (202) 622-3050 (not a toll-free number).

SUPPLEMENTARY INFORMATION:

Background

The final regulations (TD 9207) that are the subject of this correction are under sections 358, 704, 705, 737 and 752 of the Internal Revenue Code.

Need for Correction

As published, TD 9207 contains an error that may prove to be misleading and is in need of clarification.

List of Subject in 26 CFR Part 1

Income taxes, Reporting and recordkeeping requirements.

Correction of Publication

Accordingly, 26 CFR Part 1 is corrected by making the following correcting amendment:

PART 1—INCOME TAXES

Paragraph 1. The authority citation for part 1 continues to read, in part, as follows:

Authority: 26 U.S.C. 7805 * * *

In § 1.752-7(g)(5), paragraph (iii) of the Example, the table is revised as follows:

§ 1.752-7 Partnership assumption of partner's § 1.752-7 liability on or after June 24, 2003.

* * * * *

(g) * * *

(5) Examples (i) * * *

(iii) * * *

B's Basis in Property 1 After Satisfaction of Liability
[In millions]
1. Basis in Property 1 after distribution | $3
2. Plus lesser of remaining built-in loss
($2) or amount paid to satisfy liability ($1) | 1
3. Basis in Property 1 after satisfaction of liability | $4

* * * * *

Cynthia Grigsby,
Acting Chief, Publications and Regulations Branch, Legal Processing Division Associate Chief Counsel (Procedure and Administration).

[FR Doc. 05-13585 Filed 7-8-05; 8:45 am]

BILLING CODE 4830-01-P